DEPARTMENT OF ENERGY

Federal Energy Regulatory Commission

[Docket No. EC05-62-000, et al.]

La Paloma Holding Company, LLC, et al. and Electric Rate and Corporate Filings

March 30, 2005.

The following filings have been made with the Commission. The filings are listed in ascending order within each docket classification.

1. La Paloma Holding Company, LLC and La Paloma Generating Company, LLC

[Docket No. EC05-62-000]

On March 24, 2005, La Paloma Holding Company, LLC (HoldCo) and La Paloma Generating Company, LLC (La Paloma Gen) filed with the Commission, on behalf of themselves and the current and future owners of equity interests in HoldCo, an application requesting that the Commission grant all authorizations and approvals necessary under section 203 of the Federal Power Act for an indirect disposition of jurisdictional facilities as a result of certain proposed transfers of ownership or control of equity interests in HoldCo, and, in order to facilitate a more liquid market for the trading of such interests, grant additional authorizations approving certain categories of future transfers of ownership or control of equity interests in HoldCo. HoldCo states that it owns 100 percent of the equity interests in La Paloma Gen, which owns and operates a 1,040 megawatt electric generating facility located near McKittrick, California.

Comment Date: 5 p.m. Eastern Time on April 14, 2005.

2. Lake Road Holding Company, LLC and Lake Road Generating Company, L.P.

[Docket No. EC05-63-000]

On March 24, 2005, Lake Road Holding Company, LLC (HoldCo) and Lake Road Generating Company, L.P. (Lake Road Gen) filed with the Commission, on behalf of themselves and the current and future owners of equity interests in HoldCo, an application requesting that the Commission grant all authorizations and approvals necessary under section 203 of the Federal Power Act for an indirect disposition of jurisdictional facilities as a result of certain proposed transfers of ownership or control of equity interests in HoldCo, and, in order to facilitate a more liquid market for the trading of such interests, grant additional authorizations approving certain categories of future transfers of ownership or control of equity interests in HoldCo. HoldCo owns 100 percent of the equity interests in Lake Road Gen, which owns and operates a 750 megawatt electric generating facility located near Killingly, Connecticut.

Comment Date: 5 p.m. Eastern Time on April 14, 2005.

3. Deer Park Energy Center Limited Partnership

[Docket No. EG05-55-000]

Take notice that on March 18, 2005, Deer Park Energy Center Limited Partnership (Applicant) c/o Calpine Corporation, 717 Texas Avenue, Suite 1000, Houston, TX 77002, filed with the Commission an application for determination of exempt wholesale generator status pursuant to part 365 of the Commission's regulations. Applicant states that it is a Delaware limited partnership, and will own a nominal 950 megwatt natural gas-fired combined cycle cogeneration facility located in Deer Park, Texas.

Applicant states that copies of the application were served upon the United States Securities and Exchange Commission and Public Utility Commission of Texas.

Comment Date: 5 p.m. Eastern Time on April 8, 2005.

4. Rainbow Energy Marketing Corporation

[Docket Nos. ER94-1061-027 and ER05-729-000]

Take notice that on March 22, 2005, Rainbow Energy Marketing Corporation (Rainbow) tendered for filing an Original Sheet No. 6 to its FERC Electric Tariff, First Revised Volume No. 1 containing the change in status reporting requirement, in compliance with the Commission's orders issued in Docket No. ER05-351-000 and 001on February 23, 2005, and in Docket No. ER94-1061-024 on March 3, 2005.

In addition, Rainbow submitted First Revised Sheet No. 1 to its FERC Electric Tariff, First Revised Volume No. 1, which would allow Rainbow to sell ancillary services at market-based rates within the Midwest Independent Transmission System Operator, Inc.

Comment Date: 5 p.m. Eastern Time on April 12, 2005.

5. Morgan Stanley Capital Group Inc., South Eastern Electric Development Corporation, South Eastern Generating Corporation, Naniwa Energy LLC, Power Contract Finance, L.L.C., Power Contract Financing II, L.L.C., Power Contract Financing II, Inc., MS Retail Development Corp. and Utility Contract Funding II, LLC

[Docket Nos. ER94-1384-031, ER99-2329-004, ER00-1803-003, ER01-457-003, ER02-1485-005, ER03-1108-005, ER03-1109-004, ER03-1315-003 and ER04-733-002]

Take notice that on March 24, 2005, Morgan Stanley Capital Group Inc. (MSCG), on behalf of itself and its affiliates South Eastern Electric Development Corporation, South Eastern Generating Corporation, Naniwa Energy LLC, Power Contract Finance, L.L.C., Power Contract Financing II, L.L.C., Power Contract Financing II, Inc., MS Retail Development Corp., and Utility Contract Funding II, LLC, submitted a revised market power analysis.

MSCG states that copies of the filing were served on parties on the official service lists in the above-captioned proceedings.

Comment Date: 5 p.m. Eastern Time on April 14, 2005.

6. Morgan Stanley Capital Group Inc.

[Docket No. ER94-1384-032]

Take notice that on March 24, 2005, Morgan Stanley Capital Group Inc. (MSCG) submitted an amendment to its Second Revised Rate Schedule FERC No. 1 to reflect the change-in-status reporting requirement adopted in the Commission's Order No. 652, Reporting Requirement for Change in Status for Public Utilities with Market-Based Rate Authority, 110 FERC ¶ 61,097 (2005).

MSCG states that copies of the filing were served on parties on the official service list in this proceeding.

Comment Date: 5 p.m. Eastern Time on April 14, 2005.

7. South Eastern Electric Development Corporation

[Docket No. ER99-2329-003]

Take notice that, on March 24, 2005, South Eastern Electric Development Corporation (SEEDCO) submitted amendments to its FERC Electric Tariff, Original Volume No. 1 to reflect the change-in-status reporting requirement adopted by the Commission in Order No. 652, Reporting Requirement for Changes in Status for Public Utilities with Market-Based Rate Authority, 110 FERC ¶ 61,097 (2005) and the Commission's Market Behavior Rules adopted in Investigation of Terms and Conditions of Public Utility Market-Based Rate Authorizations, 105 FERC ¶ 61,218 (2003).

SEEDCO states that copies of the filing were served on parties on the official service list in the above-captioned proceeding.

Comment Date: 5 p.m. Eastern Time on April 14, 2005

8. Tampa Electric Company, Panda Gila River, L.P., Union Power Partners, L.P., TECO EnergySource, Inc., Commonwealth Chesapeake Company, L.L.C., TPS Dell, LLC, TPS McAdams, LLC and TECO-PANDA Generating Company, L.P.

[Docket Nos. ER99-2342-004, ER01-931-008, ER01-930-008, ER96-1563-021, ER99-415-007, ER02-510-004, ER02-507-004 and ER02-1000-005]

Take notice that, on March 24, 2005, Tampa Electric Company, Panda Gila River, L.P., Union Power Partners, L.P., TECO EnergySource, Inc., Commonwealth Chesapeake Company, L.L.C., TPS Dell, LLC, TPS McAdams, LLC, and TECO-PANDA Generating Company, L.P., (collectively, TECO Group) submitted for filing revisions to their respective market-based rate tariffs to include the reporting requirement for changes in status adopted in Reporting Requirement for Changes in Status for Public Utilities with Market-Based Rate Authority, Order No. 652, 110 FERC ¶ 61,097 (2005).

The TECO Group states that copies of the filing were served upon the parties on the official service list compiled by the Secretary in the captioned dockets.

Comment Date: 5 p.m. Eastern Time on April 14, 2005

9. Onondaga Cogeneration Limited

[Docket No. ER00-895-006 Partnership]

Take notice that on March 24, 2005, Onondaga Cogeneration Limited Partnership (Onondaga) filed a triennial updated market analysis pursuant to the Commission's triennial rate review requirements, the letter order issued on February 9, 2000 in Docket No. ER00-895-000, and the Order Implementing New Generation Market Power Analysis and Mitigation Procedures, Acadia Power Partners, LLC, et al., 107 FERC ¶ 61,168 (2004). Onondaga also submitted an amendment to its market-based rate tariff to incorporate the reporting requirement set forth in Order No. 652. Reporting Requirements for Changes in Status for Public Utilities with Market-Based Rate Authority, 110 FERC ¶ 61,097 (2005).

Onondaga states that copies of the filing were served on parties on the official service list in the above-captioned proceeding.

Comment Date: 5 p.m. Eastern Time on April 14, 2005.

10. South Eastern Generating Corporation

[Docket No. ER00-1803-002]

Take notice that, on March 24, 2005, South Eastern Generating Corporation (SEGCO) submitted amendments to its FERC Electric Tariff, Original Volume No. 1 to reflect the change-in-status reporting requirement adopted by the Commission in Order No. 652, Reporting Requirement for Changes in Status for Public Utilities with Market-Based Rate Authority, 110 FERC ¶ 61,097 (2005) and the Commission's Market Behavior Rules adopted in Investigation of Terms and Conditions of Public Utility Market-Based Rate Authorizations, 105 FERC ¶ 61,218 (2003).

SEGCO states that copies of the filing were served on parties on the official service list in the above-captioned proceeding.

Comment Date: 5 p.m. Eastern Time on April 14, 2005.

11. WFEC GENCO, L.L.C.

[Docket No. ER01-388-003]

Take notice that on March 24, 2005, WFEC GENCO, L.L.C. (GENCO) submitted a revised updated market power analysis. GENCO also submitted revised tariff sheets to reflect the change-in-status reporting requirement adopted by the Commission in Order No. 652, Reporting Requirement for Changes in Status for Public Utilities with Market-Based Rate Authority, 110 FERC ¶ 61,097 (2005).

GENCO states that copies of the filing were served on parties on the official service list in the above-captioned proceeding.

Comment Date: 5 p.m. Eastern Time on April 14, 2005.

12. Mobile Energy, LLC and CP Pleasant Hill, LLC

[Docket Nos. ER01-480-004 and ER01-915-003]

Take notice that on March 24, 2005, Mobile Energy, LLC and CPN Pleasant Hill, LLC submitted a joint amendment to their respective pending triennial updated market power analyses.

Comment Date: 5 p.m. Eastern Time on April 14, 2005.

13. Redbud Energy, LP

[Docket Nos. ER01-1011-003]

Take notice that on March 24, 2005, Redbud Energy LP (Redbud) submitted its market power update in compliance with the Commission's order issued May 13, 2004 in Acadia Power Partners, LLC, 107 FERC ¶ 61,168 (2004).

Redbud states that copies of the filing were served upon parties on the official service list in the captioned proceeding.

Comment Date: 5 p.m. Eastern Time on April 14, 2005.

14. Redbud Energy LC

[Docket No. ER01-1011-004]

Take notice that on March 24, 2005, Redbud Energy LP (Redbud) submitted for filing revisions to its FERC Electric Tariff, Original Volume No. 1 to include the reporting requirement for changes in status adopted in Order No. 652, Reporting Requirement for Changes in Status for Public Utilities with Market-Based Rate Authority, 110 FERC ¶ 61,097 (2005).

Redbud states that copies of the filing were served upon the parties on the official service list.

Comment Date: 5 p.m. Eastern Time on April 14, 2005.

15. Astoria Energy LLC

[Docket No. ER01-3103-008]

Take notice that on March 21, 2005, Astoria Energy LLC (Astoria) submitted a supplement to its March 1, 2005, filing of a request for Commission renewal of all aspects of Astoria's existing market-based rate authority, together with the waivers of and blanket authorizations under the Federal Power Act previously granted to Astoria. Astoria requests an effective date of March 6, 2005.

Comment Date: 5 p.m. Eastern Time on April 11, 2005.

16. Power Contract Financing II, L.L.C.

[Docket No. ER03-1108-004]

Take notice that, on March 24, 2005, Power Contract Financing II, L.L.C. (PCF II, LLC) submitted an amendment to its Rate Schedule FERC No. 1 to reflect the change-in-status reporting requirement adopted by the Commission in Order No. 652, Reporting Requirement for Change in Status for Public Utilities with Market-Based Rate Authority, 110 FERC ¶ 61,097 (2005).

PCF II, LLC states that copies of the filing were served on parties on the official service list in this proceeding.

Comment Date: 5 p.m. Eastern Time on April 14, 2005.

17. Power Contract Financing II, Inc.

[Docket No. ER03-1109-005]

Take notice that on March 24, 2005, Power Contract Financing II, Inc. (PCF II, Inc.) submitted an amendment to its Rate Schedule FERC No. 1 to reflect the change-in-status reporting requirement adopted by the Commission in Order No. 652, Reporting Requirement for Change in Status for Public Utilities with Market-Based Rate Authority, 110 FERC ¶ 61,097 (2005).

PCF II, Inc. states that copies of the filing were served on parties on the official service list in this proceeding.

Comment Date: 5 p.m. Eastern Time on April 14, 2005.

18. Utility Contract Funding II, LLC

[Docket No. ER04-733-001]

Take notice that, on March 24, 2005, Utility Contract Funding II, LLC (UCF II) submitted an amendment to its Rate Schedule FERC No. 1 to reflect the change-in-status reporting requirement adopted by the Commission in Order No. 652, Reporting Requirement for Change in Status for Public Utilities with Market-Based Rate Authority, 110 FERC ¶ 61,097 (2005).

UCF II states that copies of the filing were served on parties on the official service list in this proceeding.

Comment Date: 5 p.m. Eastern Time on April 14, 2005.

19. Elk River Windfarm LLC

[ Docket Nos. ER05-365-002 and ER05-365-003]

Take notice that on March 23, 2005 and March 25, 2005, Elk River Windfarm LLC (Elk River) submitted Second Revised Sheet No. 8 and First Revised Sheet No. 1, respectively, to FERC Electric Tariff Original Volume No. 1.

Comment Date: 5 p.m. Eastern Time on April 15, 2005.

20. Otter Tail Corporation

[Docket No. ER05-555-000]

Take notice that on March 23, 2005, Otter Tail Corporation, pursuant to the Commission's Rules of Practice and Procedures, 18 CFR 385.216, submitted a notice of withdrawal of its February 4, 2005 filing of a notice of succession in the Docket No. ER05-555-000.

Comment Date: 5 p.m. Eastern Time on April 13, 2005.

21. Hot Spring Power Company

[Docket No. ER05-570-002]

Take notice that on March 23, 2005, Hot Spring Power Company submitted for filing Original Sheet No. 4, Revision No. 1, Hot Spring Power Company's FERC Electric Rate Schedule No. 1, in compliance with the Commission's letter order issued March 14, 2005, 110 FERC ¶ 61,284 (2005).

Comment Date: 5 p.m. Eastern Time on April 13, 2005.

22. Gulf States Wholesale Equity Partners, LP

[Docket Nos. ER05-679-000 and ER05-679-001]

Take notice that on March 4, 2005, as amended on March 23, 2005, Gulf States Wholesale Equity Partners, LP submitted a petition requesting the acceptance of Gulf States Wholesale Equity Partners, LP's Rate Schedule FERC No. 1; the granting of certain blanket approvals, including the authority to sell electricity at market-based rates; and the waiver of certain Commission regulations. Gulf States Wholesale Equity Partners, LP states that it intends to engage in wholesale electric power and energy purchases and sales as a marketer and is not in the business of generating or transmitting electric power. Gulf States Wholesale Equity Partners, LP further states that it is involved in consulting of electricity and marketing of wholesale power and is not associated with any utilities, investor owned or otherwise.

Comment Date: 5 p.m. Eastern Time on April 13, 2005.

23. California Independent System Operator Corporation

[Docket No. ER05-718-000]

Take notice that on March 23, 2005, the California Independent System Operator Corporation (CAISO) tendered for filing an amendment to the CAISO Tariff, Amendment No. 66, for expedited consideration and acceptance by the Commission. The CAISO states that the purpose of Amendment No. 66 is to implement an interim solution to the problem of excessive costs incurred as a result of the manner in which import and export bids from System Resources are cleared and settled under Phase 1B of the CAISO's Market Redesign and Technology Upgrade. The CAISO is requesting an effective date of March 24, 2005.

The CAISO states that this filing has been served upon the California Public Utilities Commission, the California Energy Commission, the California Electricity Oversight Board, and all parties with effective Scheduling Coordinator Agreements under the CAISO Tariff.

Comment Date: 5 p.m. Eastern Time on April 4, 2005.

24. Entergy Services, Inc.

[Docket No. ER05-719-000]

Take notice that on March 23, 2005, Entergy Services, Inc. (Entergy Services) submitted for filing on behalf of Entergy Arkansas, Inc. (EAI) a 2005 Wholesale Formula Rate Update (Update). Entergy Services states that the Update redetermines the formula rate charges and the Transmission Loss Factor.

Comment Date: 5 p.m. Eastern Time on April 13, 2005.

25. Basin Electric Power Cooperative

[Docket No. NJ04-2-003]

Take notice that on March 23, 2005, Basin Electric Power Cooperative (Basin Electric) tendered for filing a revised Attachment L to its non-jurisdictional open-access transmission reciprocity tariff, FERC Electric Tariff, Original Volume No. 1 (West-Side OATT) pursuant to the Commission's order issued February 18, 2005, Basin Electric Power Cooperative, 110 FERC ¶ 61,175 (2005). Basin Electric requests an effective date of January 19, 2005.

Basin Electric states that copies of the transmittal letter to the filing were served upon customers under the West-Side OATT, the Public Service Company of Colorado, the Iowa Utilities Board, the Minnesota Public Utilities Commission, the Montana Public Service Commission, the Nebraska Public Service Commission, the New Mexico Public Service Commission, the North Dakota Public Service Commission, the South Dakota Public Utilities Commission, and the Wyoming Public Service Commission.

Comment Date: 5 p.m. Eastern Time on April 13, 2005.

26. Birchwood Power Partners, L.P.

[Docket Nos. QF93-126-007 and EL05-69-002]

Take notice that on March 21, 2005, Birchwood Power Partners, L.P. filed a supplement to its February 28, 2005 “Request for Declaratory Order, Or in the Alternative, Petition for Order Granting Limited Waiver of Qualifying Facility Operating Standard.”

Comment Date: 5 p.m. Eastern Time on April 11, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-1576 Filed 4-5-05; 8:45 am]

BILLING CODE 6717-01-P